DEPARTMENT OF ENERGY

Federal Energy Regulatory Commission

[Docket No. ER02-517-002, et al.]

UtiliGroup, Inc., et al.; Electric Rate and Corporate Regulation Filings

May 14, 2002.

The following filings have been made with the Commission. The filings are listed in ascending order within each docket classification.

1. UtiliGroup, Inc.

[Docket No. ER02-517-002]

Take notice that on May 3, 2002, UtiliGroup, Inc. (UtiliGroup) tendered for filing with the Federal Energy Regulatory Commission (Commission) additional information to its original Petition for Acceptance of Initial Rate Schedule, Waivers and Blanket Authority filed December 10, 2001 and Amendment filed February 4, 2002.

Comment Date: May 24, 2002.

2. San Diego Gas & Electric Company

[Docket No. ER02-613-001]

Take notice that on April 30, 2002, San Diego Gas and Electric Company (SDG&E) tendered for filing with the Federal Energy Regulatory Commission (Commission) revised tariff sheets in Docket No. ER02-613-000, dated December 24, 2001, reflecting its proposed recovery of revenue requirements. Since making its filing, SDG&E determined that the revenue requirement submitted did not include recovery of franchise fees paid to the cities and counties in its service territory.

SDG&E is requesting the Commission to approve the revised revenue requirements and rates effective July 1, 2002 through December 31, 2002

.

Comment Date: May 24, 2002.

3. Oncor Electric Delivery Company

[Docket No. ER02-1029-001]

Take notice that on May 9, 2002, Oncor Electric Delivery Company (Oncor) tendered for filing with the Federal Energy Regulatory Commission (Commission), its Sixth Revised Tariff for Transmission Service To, From and Over Certain HVDC Interconnections to modify the tariff to change the name of TXU Electric Company to Oncor Electric Delivery Company and otherwise conform the tariff to the requirements of Order No. 614 in compliance with the Commission's April 15, 2002 order in Docket No. ER02-1029-000 regarding Oncor's Notice of Succession.

Oncor states that this filing has been served upon each customer taking service under the tariff and the Public Utility Commission of Texas.

Comment Date: May 30, 2002

4. Oncor Electric Delivery Company

[Docket No. ER02-1029-002]

Take notice that on May 9, 2002, Oncor Electric Delivery Company (Oncor) tendered for filing with the Federal Energy Regulatory Commission (Commission), its Second Revised Tariff for Transmission Service for Tex-La Electric Cooperative of Texas, Inc. to modify the tariff to change the name of TXU Electric Company to Oncor Electric Delivery Company and otherwise conform the tariff to the requirements of Order No. 614 in compliance with the Commission's April 15, 2002 order in Docket No. ER02-1029-000 regarding Oncor's Notice of Succession.

Oncor states that this filing has been served upon each customer taking service under the tariff and the Public Utility Commission of Texas.

Comment Date: May 30, 2002.

5. Continental Electric Cooperative Services, Inc.

[Docket No. ER02-1118-001]

Take notice that on May 9, 2002, Continental Electric Cooperative Services, Inc. (CCS) tendered for filing with the Federal Energy Regulatory Commission (Commission), modified FERC Electric Rate Schedule No. 1 in compliance with the Commission's Letter Order issued April 24, 2002.

Comment Date: May 30, 2002.

6. Garnet Energy LLC

Docket No. ER02-1119-001]

Take notice that on May 9, 2002, Garnet Energy LLC (Garnet) filed with the Federal Energy Regulatory Commission (Commission), a Clarification and Compliance Filing of Supplemental Information regarding the Application for Market-Based Rate Authority filed February 26, 2002, with the Commission seeking acceptance of Garnet's FERC Rate Schedule No. 1 and the granting of certain blanket approvals, including the authority to sell energy and capacity at market-based rates and the waiver of certain Commission regulations. The filing was submitted in compliance with the letter order issued April 22, 2002.

Comment Date: May 30, 2002.

7. Tampa Electric Company

Docket No. ER02-1177-001]

Take notice that on May 8, 2002, Tampa Electric Company (TEC) tendered for filing an amendment to an executed Interconnection and Operating Agreement between TEC and Auburndale Peaker Energy Center, L.L.C. in accordance with the April 8, 2002 letter order issued by the Director of the Division of Tariffs and Rates—East.

Comment Date: May 29, 2002.

8. Midwest Independent Transmission System Operator, Inc.

Docket No. ER02-1422-002]

Take notice that on May 7, 2002, the Midwest Independent Transmission System Operator, Inc. (the Midwest ISO) tendered for filing the average loss factor for the Joint Open Access Transmission Tariff for the Midwest Independent Transmission System Operator, Inc. for the Transmission System (Michigan), FERC Electric Tariff, Original Volume No. 2 (JOATT).

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. Customers served under the existing JOATT will be served with paper copies of this filing by U.S. mail.

Comment Date: May 28, 2002.

9. Pinnacle West Capital Corporation

Docket No. TX02-1-001]

Take notice that on May 7, 2002, Electrical District No. 3 of Pinal County, State of Arizona, (ED3) filed with the Federal Energy Regulatory Commission (Commission), a transmission service agreement (TSA) between ED3 and Pinnacle West Capital Corporation (PWCC), pursuant to which ED3 will provide transmission services to PWCC pursuant to Section 211 of the Federal Power Act, in accordance with the Commission's Proposed Order Directing Transmission Services and Ordering Further Proceedings in Pinnacle West Capital Corp., 98 FERC ¶ 61,039 (2002).

ED3 requests an effective date of October 9, 2001 for the TSA. PWCC concurs in ED3's filing.

Comment Date: June 13, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-12660 Filed 5-20-02; 8:45 am]

BILLING CODE 6717-01-P